SECURITIES AND EXCHANGE COMMISSION

[Release No. 34-47704; File No. SR-NASD-2003-70]

Self-Regulatory Organizations; Notice of Filing and Order Granting Accelerated Approval of Proposed Rule Change by the National Association of Securities Dealers, Inc. Relating to the Listing and Trading of Market Recovery Notes Linked to the PHLX Semiconductor Sector

April 18, 2003.

Correction

In notice document 03-10217 beginning on page 20413 in the issue of Friday, April 25, 2003, make the following corrections:

1. On page 20413, in the second column, at the bottom of the page, in the footnotes, footnote “⁴” should read footnote “¹”.

2. On the same page, in the same column, at the bottom of the page, in the footnotes, footnote “⁵” should read footnote “²”.

[FR Doc. C3-10217 Filed 5-16-03; 8:45 am]

BILLING CODE 1505-01-D